SURFACE TRANSPORTATION BOARD

[Docket No. MCF 21136]

American Safety Holdings, LLC, a Louisiana Limited Liability Company—Acquisition of Property—American-International Travel, Inc. d/b/a Dixieland Tours & Cruises, a Louisiana Corporation

AGENCY: Surface Transportation Board.

ACTION: Notice tentatively approving and authorizing finance transaction.

SUMMARY: On June 17, 2025, American Safety Holdings, LLC (Holdings), a noncarrier, and its affiliate American Safety Transit, LLC (Transit), a motor passenger carrier, filed an application for control over substantially all the assets of American-International Travel, Inc. d/b/a Dixieland Tours and Cruises (Dixieland), a motor passenger carrier. By supplement filed on August 1, 2025, Bricor Energy Group, LLC (Bricor), and Ana Begovich (Begovich), both noncarriers, joined the application, which was supplemented again on August 12, 2025. (Holdings, Transit, Bricor, and Begovich will be collectively referred to as Applicants). Applicants also seek after-the-fact authority for Holdings' prior acquisition of property from New Orleans Tours, Inc. (New Orleans Tours), and its affiliates, Airport Shuttle, LLC (Airport Shuttle), and Car Noir, LLC (Car Noir). The Board is tentatively approving and authorizing these transactions. If no opposing comments are timely filed, this notice will be the final Board action.

DATES: Comments must be filed by October 27, 2025. If any comments are filed, Applicants may file a reply by November 10, 2025. If no opposing comments are filed by October 27, 2025, this notice shall be effective on October 28, 2025.

ADDRESSES: Comments, referring to Docket No. MCF 21136, may be filed with the Board either via e-filing on the Board's website or in writing addressed to: Surface Transportation Board, 395 E Street SW, Washington, DC 20423-0001. In addition, send one copy of comments to Applicants' representative: Jonathan L. Schultis, Ricci Partners, LLC, 101 W Robert E. Lee Blvd., Suite 400, New Orleans, LA 70124.

FOR FURTHER INFORMATION CONTACT: Nathaniel Bawcombe at (202) 915-3555. If you require an accommodation under the Americans with Disabilities Act, please call (202) 245-0245.

SUPPLEMENTARY INFORMATION: According to the application,¹ Holdings and Transit are Louisiana companies under common ownership. (Appl. 4-5.) Their majority owner, Bricor, is a Louisiana company that is wholly owned by Begovich.² (Appl. 5-6.) Applicants state that Transit is the only motor passenger carrier affiliated with Bricor and Begovich. (Suppl. 2-3, Aug. 1, 2025.) According to Applicants, Transit provides contractual labor transportation services in Louisiana and aims to expand its service to Texas.³ (Suppl. 6, Aug. 1, 2025.)

¹ The application was supplemented on August 1, 2025, and on August 12, 2025. Therefore, for purposes of determining the procedural schedule and statutory deadlines, the filing date of the application is August 12, 2025. See 49 CFR 1182.4(a).

² More information about Applicants' corporate structure and ownership can be found in the application. (See Appl. 4-6; Suppl. 2-4, Ex. A, Aug. 1, 2025.)

³ Further information about Transit, including a U.S. Department of Transportation (USDOT) number, motor carrier number, and USDOT safety fitness rating, can be found in the application. (Appl. 5, 9.)

Applicants state that, pursuant to an asset purchase agreement, Holdings will acquire substantially all the assets of Dixieland, including 21 motorcoaches and non-motorcoach assets.⁴ (Appl. 2-3.) Holdings will then lease the motorcoaches to Transit for operation. (Id. at 3.) Applicants assert that Dixieland's shareholders intend to withdraw from the motorcoach passenger business following consummation of the proposed transaction, while Dixieland's brand continues as a going concern with Applicants assuming responsibility for its operations and service. (Id.)

⁴ The non-motorcoach assets include real property used as Dixieland's garage facilities, customer lists, telephone numbers, pending motor coach charter customer contracts, charter contract deposits associated with pending charter contracts, parts, equipment, supplies, and website and related software and intangibles. (Appl. 3.)

According to Applicants, Dixieland is a Louisiana corporation that provides event-specific charter services for sporting events, weddings, conventions, and other events.⁵ (Suppl. 1, 5-6, Aug. 1, 2025.) Applicants state that Dixieland's customers largely consist of schools, universities, the military, churches, and civic organizations. (Id. at 6.) According to Applicants, Dixieland operates 21 power units and employs approximately 39 drivers. (Id. at 5.) The application states that 82% of Dixieland's charter service during the year ending on May 31, 2025, was for intrastate travel,⁶ and that its interstate motorcoach service operates mostly in Texas, Mississippi, Alabama, and Florida. (Id. at 6.)

⁵ More information about Dixieland's corporate structure and ownership can be found in the application, along with its USDOT number, motor carrier number, and USDOT safety fitness rating. (Appl. 2; Suppl. 6, Aug. 1, 2025.)

⁶ The application states that 90% of Dixieland's service originates within 300 miles of its Baton Rouge, La., terminal. (Suppl. 6, Aug. 1, 2025.)

Applicants also seek after-the-fact authorization for Holdings' December 31, 2024 acquisition of substantially all the assets of New Orleans Tours and assets of its affiliates.⁷ (Id. at 7; Suppl. 2, Aug. 12, 2025.) Specifically, Holdings acquired 12 motorcoaches and automobiles from New Orleans Tours, 15 motorcoaches owned by Airport Shuttle, and one sprinter van owned by Car Noir. (Suppl. 7, Aug. 1, 2025.) According to Applicants, at the time Holdings acquired these assets, New Orleans Tours provided intrastate and interstate charter and transportation services including historical tours, paddle wheel tours, sightseeing tours, and swamp tours. (Id. at 8.) Applicants further state that Airport Shuttle operated intrastate, offering ride share shuttle service from the New Orleans Airport to hotels and other accommodations, and that Car Noir was not a carrier. (Id.) According to Applicants, Transit will acquire from Holdings the right to operate the assets of New Orleans Tours and its affiliates, and Transit will expand its services to include contractual shuttle and charter services for events, conventions, sporting events, and site-seeing tours. (Id. at 6-7.)

⁷ More information about the corporate structure of New Orleans Tours and its affiliates can be found in the application. (Suppl. 7-8, Aug. 1, 2025.) According to the application, New Orleans Tours' Federal Motor Carrier Safety Administration record is now inactive. (Id. at 8.)

Under 49 U.S.C. 14303(b), the Board must approve and authorize a transaction that it finds consistent with the public interest, taking into consideration at least (1) the effect of the proposed transaction on the adequacy of transportation to the public, (2) the total fixed charges resulting from the proposed transaction, and (3) the interest of affected carrier employees. Applicants have submitted the information required by 49 CFR 1182.2, including information demonstrating that the proposed transaction is consistent with the public interest under 49 U.S.C. 14303(b), see 49 CFR 1182.2(a)(7), and a jurisdictional statement under 49 U.S.C. 14303(g) that the aggregate gross operating revenues of the involved carriers exceeded $2 million during a consecutive 12-month period ending not more than 6 months before the date of the agreement of the parties, see 49 CFR 1182.2(a)(5).

Acquisition of Dixieland Assets. Applicants state that the proposed transaction will materially enhance the adequacy and efficiency of transportation to the public by enabling coordinated deployment of operational assets under their unified control. (Appl. 7.) Applicants further claim that the proposed transaction will increase availability and improve utilization of motor carrier service, resulting in greater service reliability and operational efficiency. (Id.) Applicants assert that Transit's management will ensure continuity of operations and a seamless transition, without service interruptions or adverse impacts to the public. (Id. at 8.) Further, Applicants argue that existing service levels will be maintained and enhanced through the leveraging of consolidated resources and more efficient scheduling. (Id.) Applicants also argue that the proposed transaction will facilitate service expansion into new or underserved areas. (Id.) As to potential competitive effects, Applicants state that Dixieland's service faces intense competition from motorcoach providers and other modes of transportation, including private motor vehicles, intercity passenger rail service, and passenger airline service. (Suppl. 6, Aug. 1, 2025.) Applicants also state that Dixieland does not compete with Transit, which provides contractual labor transportation. (Id.) Further, Applicants state that Transit hopes the proposed transaction will allow it to expand its services at competitive rates. (Id. at 7.)

With respect to fixed charges, Applicants state that the proposed transaction will not result in a substantial change to such charges. (Appl. 8.) Applicants state that only limited debt financing or borrowed funds will be utilized in executing the proposed transaction, and thus it will not generate unreasonable amounts of interest expense. (Id.) In addition, Applicants state that Holdings will assume substantially all of Dixieland's existing service contracts at the same rates and terms consistent with those currently in effect. (Id.)

According to Applicants, the proposed transaction will not result in a material disruption to the existing workforce or negatively impact labor conditions or employee rights. (Id. at 9.) Applicants claim that they will offer employment to all Dixieland personnel under the same terms and conditions in effect prior to the proposed transaction. (Id.) Applicants further assert that they have no plans to implement any workforce reductions, layoffs, or adverse changes to employee compensation or benefits. (Id.)

Prior Acquisition of Assets of New Orleans Tours and its Affiliates. Applicants assert that Holdings' prior acquisition was consistent with the public interest. (Suppl. 10, Aug. 1, 2025.) According to Applicants, the prior acquisition materially enhanced the adequacy and efficiency of transportation to the public by enabling the coordinated deployment of operational assets under unified control. (Id. at 9.) Applicants also assert that the acquisition led to greater service availability, resulting in increased reliability and operational efficiency, and that there were no service interruptions or adverse impacts to the public. (Id. at 9-10.) Applicants also state that, in the relevant geographic market, a substantial number of competitors continue to operate. (Id. at 10.) With respect to fixed charges, Applicants argue that the acquisition did not result in a substantial change to the charges of the consolidated entity and was executed with minimal reliance on debt financing or borrowed capital. (Id. at 10-11.) In addition, Applicants state that they have continued the operations of New Orleans Tours without disruptions in employment for existing personnel, as all former New Orleans Tours employees accepted comparable or enhanced positions with Transit. (Id. at 11.)

Based on Applicants' representations, the Board finds that Applicants' proposed acquisition of the Dixieland assets is consistent with the public interest and should be tentatively approved and authorized. The Board also finds that Applicants' prior acquisition of the assets of New Orleans Tours and its affiliates is consistent with the public interest and should be tentatively approved and authorized after the fact. If any opposing comments are timely filed, these findings will be deemed vacated and, unless a final decision can be made on the record as developed, a procedural schedule will be adopted to reconsider the application. See 49 CFR 1182.6. If no opposing comments are filed by the expiration of the comment period, this notice will take effect automatically and will be the final Board action in this proceeding.

This action is categorically excluded from environmental review under 49 CFR 1105.6(c).

Board decisions and notices are available at www.stb.gov.

It is ordered:

1. The proposed acquisition of property of Dixieland by Applicants is approved and authorized, subject to the filing of opposing comments.

2. Applicants' prior acquisition of the assets of New Orleans Tours and its affiliates is approved and authorized after the fact, subject to the filing of opposing comments.

3. If opposing comments are timely filed, the findings made in this notice will be deemed vacated.

4. This notice will be effective October 28, 2025, unless opposing comments are filed by October 27, 2025. If any comments are filed, Applicants may file a reply by November 10, 2025.

5. A copy of this notice will be served on: (1) the U.S. Department of Transportation, Federal Motor Carrier Safety Administration, 1200 New Jersey Avenue SE, Washington, DC 20590; (2) the U.S. Department of Justice, Antitrust Division, 10th Street & Pennsylvania Avenue NW, Washington, DC 20530; and (3) the U.S. Department of Transportation, Office of the General Counsel, 1200 New Jersey Avenue SE, Washington, DC 20590.

Decided: September 5, 2025.
By the Board, Board Members Fuchs, Hedlund, and Schultz.
Brendetta Jones,
Clearance Clerk.

[FR Doc. 2025-17479 Filed 9-10-25; 8:45 am]

BILLING CODE 4915-01-P